DEPARTMENT OF HOMELAND SECURITY

Federal Emergency Management Agency

[Internal Agency Docket No. FEMA-4339-DR; Docket ID FEMA-2017-0001]

Puerto Rico; Amendment No. 5 to Notice of a Major Disaster Declaration

AGENCY: Federal Emergency Management Agency, DHS.

ACTION: Notice.

SUMMARY: This notice amends the notice of a major disaster for the Commonwealth of Puerto Rico (FEMA-4339-DR), dated September 20, 2017, and related determinations.

DATES: This amendment was issued November 2, 2017.

FOR FURTHER INFORMATION CONTACT: Dean Webster, Office of Response and Recovery, Federal Emergency Management Agency, 500 C Street SW., Washington, DC 20472, (202) 646-2833.

SUPPLEMENTARY INFORMATION: Notice is hereby given that, in a letter dated November 2, 2017, the President amended the cost-sharing arrangements regarding Federal funds provided under the authority of the Robert T. Stafford Disaster Relief and Emergency Assistance Act, 42 U.S.C. 5121 et seq. (the “Stafford Act”), in a letter to Brock Long, Administrator, Federal Emergency Management Agency, Department of Homeland Security, under Executive Order 12148, as follows:

I have determined that the damage in certain areas of the Commonwealth of Puerto Rico resulting from Hurricane Maria beginning on September 17, 2017, and continuing, is of sufficient severity and magnitude that special cost-sharing arrangements are warranted regarding Federal funds provided under the Robert T. Stafford Disaster Relief and Emergency Assistance Act, 42 U.S.C. 5121 et seq. (the “Stafford Act”).

Due to the extraordinary level of impact to the Commonwealth's infrastructure caused by Hurricane Maria as well as a debt burden of more than $120 billion subject to court-supervised debt restructuring, and recognizing the Commonwealth's election on October 30, 2017, to participate in alternative procedures for all large project funding for Public Assistance Categories C-G pursuant to section 428 of the Stafford Act, I amend my declarations of September 20, 2017 and September 26, 2017, to authorize Federal funds for all categories of Public Assistance at 90 percent of total eligible costs, except for assistance previously approved at 100 percent, subject to the following grant conditions, which I direct you to reflect in the agreement between the Commonwealth and the Federal Emergency Management Agency (FEMA):

1. The Commonwealth establish a Commonwealth grant oversight authority, supported by third-party experts, to perform as the grant recipient for Public Assistance and Hazard Mitigation funding to ensure sound project management and enhanced, centralized control and oversight over the distribution of FEMA grant funds;

2. All large project funding for Public Assistance Categories C-G be obligated by FEMA only through alternative procedures as FEMA shall establish under section 428 of the Stafford Act, including third-party independent expert validation of estimates for projects exceeding a threshold FEMA shall establish consistent with law; and

3. Hazard Mitigation grant funding available under section 404 of the Stafford Act be prioritized toward protecting Federal investments in Puerto Rico's public infrastructure.

This adjustment to Commonwealth and local cost sharing applies only to Public Assistance costs and direct Federal assistance eligible for such adjustments under the law. The Stafford Act specifically prohibits a similar adjustment for funds provided for Other Needs Assistance (section 408) and the Hazard Mitigation Grant Program (section 404). These funds will continue to be reimbursed at 75 percent of total eligible costs.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Brock Long,
Administrator, Federal Emergency Management Agency.

[FR Doc. 2017-24908 Filed 11-15-17; 8:45 am]

BILLING CODE 9111-23-P